FEDERAL COMMUNICATIONS COMMISSION

Radio Broadcasting Services; AM or FM Proposals To Change the Community of License

AGENCY: Federal Communications Commission.

ACTION: Notice.

SUMMARY: The following applicants filed AM or FM proposals to change the community of license: BRANTLEY BROADCAST ASSOCIATES, LLC, Station WEZZ, Facility ID 40900, BP-20131209YDT, From MONROEVILLE, AL, To BRANTLEY, AL; FULLER BROADCASTING INTERNATIONAL, LLC, Station WSKP, Facility ID 58731, BPH-20131226ADD, From LEDYARD, CT, To BRADFORD, RI; KESS-AM LICENSE CORP., Station KFLC, Facility ID 34298, BP-20140106DQR, From FORT WORTH, TX, To BENBROOK, TX; L-L LICENSEE, LLC, Station WHXT, Facility ID 50522, BPH-20131120AYO, From ORANGEBURG, SC, To SWANSEA, SC; NEW LIFE EVANGELISTIC CENTER, INC., Station WINU, Facility ID 73996, BP-20131218DTZ, From SHELBYVILLE, IL, To ASSUMPTION, IL; NORTHWEST INDY RADIO, Station KCFL, Facility ID 174954, BMPED-20140113AAB, From WESTPORT, WA, To HOQUIAM, WA; ROBERT E. LEE, Station NEW, Facility ID 191551, BMPH-20140110ABG, From ROBERT LEE, TX, To ROTAN, TX; SSR COMMUNICATIONS, INC., Station KIMW, Facility ID 191575, BMPH-20130913ACG, From HAYNESVILLE, LA, To HEFLIN, LA; WAY BROADCASTING LICENSEE, LLC, Station WZHF, Facility ID 73306, BP-20131223AFI, From ARLINGTON, VA, To CAPITOL HEIGHTS, MD.

DATES: The agency must receive comments on or before April 14, 2014.

ADDRESSES: Federal Communications Commission, 445 Twelfth Street SW., Washington, DC 20554.

FOR FURTHER INFORMATION CONTACT: Tung Bui, 202-418-2700.

SUPPLEMENTARY INFORMATION: The full text of these applications is available for inspection and copying during normal business hours in the Commission's Reference Center, 445 12th Street SW., Washington, DC 20554 or electronically via the Media Bureau's Consolidated Data Base System, http://svartifoss2.fcc.gov/prod/cdbs/pubacc/prod/cdbs_pa.htm. A copy of this application may also be purchased from the Commission's duplicating contractor, Best Copy and Printing, Inc., 445 12th Street SW., Room CY-B402, Washington, DC, 20554, telephone 1-800-378-3160 or www.BCPIWEB.com.

Federal Communications Commission.
James D. Bradshaw,
Deputy Chief, Audio Division, Media Bureau.

[FR Doc. 2014-02966 Filed 2-10-14; 8:45 am]

BILLING CODE 6712-01-P